DEPARTMENT OF ENERGY

Federal Energy Regulatory Commission

Notice of Application Ready for Environmental Analysis and Soliciting Comments, Recommendations, Terms and Conditions, and Prescriptions

April 13, 2000.

Take notice that the following hydroelectric application has been filed with the Commission and is available for public inspection.

a. Type of Application: Minor License.

b. Project No.: 11566-000.

c. Date Filed: December 12, 1995.

d. Applicant: Ridgewood Maine Hydro Partners, L.P.

e. Name of Project: Damariscotta Mills Project.

f. Location: On the Damariscotta River in Lincoln County, near Newcastle, Nobleboro, and Jefferson, Maine.

g. Filed Pursuant to: Federal Power Act 16 U.S.C. 791(a)-825(r).

h. Applicant Contact: Mr. Kevin M. Webb, CHI Energy, Inc., Andover Business Park, 200 Bulfinch Drive, Andover, MA 01810, (978) 681-7727.

i. FERC Contact: Any questions on this notice should be addressed to Michael Spencer, E-mail address, michael.spencer@ferc.fed.us, or telephone (202) 219-2846.

j. Deadline for comments, recommendations, terms and conditions, and prescriptions: 60 days from the issuance date of this notice.

All documents (original and eight copies) should be filed with: David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application has been accepted for filing and is ready for environmental analysis at this time.

l. Description of the Project: The existing project consists of: (1) a 5-foot-high, 124-foot-long concrete dam with three stoplog bays referred to as the “Fishway Dam”; (2) a 5-foot-high, 40-foot-long dike; (3) a 9.5-foot-high, 57-foot-long concrete dam with two waste gates and a stoplog bay referred to as the “Waste Gate Dam”; (4) a 15-foot-high intake structure, referred to as the “Intake Dam” consisting of: (a) two stone masonry wing walls, extending 125 feet along the east bank and 50 feet along the west bank of the impoundment; (b) steel trashracks and (c) a wooden gatehouse containing a manually operated wooden headgate; (5) a 4,625-acre reservoir with 6,875 acre-feet storage volume at the normal surface elevation of 54.35 feet, National Geodetic Vertical Datum (NGVD); (6) a 5.6-foot-diameter, 350-foot-long steel penstock; (7) a surge tank at the end of the penstock; (8) a 30×35 foot masonry powerhouse containing a single generating unit having an installed capacity of 460 kW and an average annual generation of 1,830 MWh; (9) a 100-foot-long, 12.47-kV underground transmission line; and (10) appurtenant facilities.

m. Locations of the Application: A copy of the application is available for inspection and reproduction at the Commission's Public Reference Room, located at 888 First Street, NE, Room 2A, Washington, DC 20426, or by calling (202) 208-1371. The application may be viewed on the web at http://www.ferc.fed.us/online/rims.htm (Call (202) 208-2222 for assistance). A copy is also available for inspection and reproduction at the address shown in item h.

Filing and Service of Responsive Documents—The application is ready for environmental analysis at this time, and the Commission is requesting comments, reply comments, recommendations, terms and conditions, and prescriptions.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause of extraordinary circumstances in accordance with 18 CFR 385.2008.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, NE, Washington, DC 20426. An additional copy must be sent to Director, Division of Environmental Engineering Review, Federal Energy Regulatory Commission, at the above address. Each filing must be accompanied by proof of service on all persons listed on the service list prepared by the Commission in this proceeding, in accordance with 18 CFR 4.34(b), and 385.2010.

David P. Boergers,
Secretary.

[FR Doc. 00-9758 Filed 4-18-00; 8:45 am]

BILLING CODE 6717-01-M